FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 011790-001.

Title: Dole Ocean Cargo Express/King Ocean Services Limited Space Charter Agreement.

Parties: Dole Ocean Cargo Express, Inc., and King Ocean Services Limited.

Filing Party: Wayne R. Rohde, Esq.; Cozen O'Connor; 1627 I Street, NW. Suite 1100; Washington, DC 20006.

Synopsis: The amendment would provide for chartering of space on an “as needed as available” basis, update the address of King Ocean, and restate the Agreement.

Agreement No.: 012088-001.

Title: Hanjin and WHS Transpacific Vessel Sharing and Slot Allocation Agreement.

Parties: Hanjin Shipping Co., Ltd. and Wan Hai Lines (Singapore) PTE. Ltd.

Filing Party: Robert B. Yoshitomi, Esq.; Nixon Peabody LLP; Gas Company Tower; 555 West Fifth Street, 46th Floor; Los Angeles, CA 90013.

Synopsis: The amendment would add COSCON as a party to the Agreement and revise the name of the Agreement to Hanjin/WHS/COSCON Transpacific Vessel Sharing and Slot Allocation Agreement.

Dated: March 18, 2011.
By Order of the Federal Maritime Commission.
Karen V. Gregory,
Secretary.

[FR Doc. 2011-6859 Filed 3-22-11; 8:45 am]

BILLING CODE 6730-01-P